FEDERAL COMMUNICATIONS COMMISSION

47 CFR Parts 1, 20, and 43

[CC Docket No. 99-301, FCC 04-81]

Local Competition and Broadband Reporting

AGENCY: Federal Communications Commission.

ACTION: Final rule; order on reconsideration.

SUMMARY: In this document, the Federal Communications Commission denies the petition of Iowa Telecommunications Services, Inc. (Iowa Telecom), for reconsideration of the Commission's Data Gathering Order published Wednesday, April 12, 2000 (65 FR 19675). Iowa Telecom requested the Commission to adopt annual statistical sampling for certain rural telephone companies in lieu of reporting Form 477 data.

FOR FURTHER INFORMATION CONTACT: Thomas J. Beers, Deputy Chief, or John C. K. Hays, Senior Attorney, Industry Analysis and Technology Division, Wireline Competition Bureau, at (202) 418-0952.

SUPPLEMENTARY INFORMATION: Iowa Telecommunications Services, Inc. (Iowa Telecom), in a petition for reconsideration of the Data Gathering Order, asked the Commission to adopt annual statistical sampling for certain rural telephone companies in lieu of reporting Form 477 data. The Commission denied the petition finding that Iowa Telecom has not raised materially new or persuasive arguments beyond those considered in the Data Gathering Order, nor has it alleged substantially changed circumstances to justify the requested relief. Parties wishing to revisit these arguments more generally may do so in the context of the Notice of Proposed Rulemaking in WC Docket No. 04-141.

Ordering Clauses

It is further ordered that, pursuant to sections 1-5, 10, 11, 201-205, 215, 218-220, 251-271, 303(r), 332, 403, 502, and 503 of the Communications Act of 1934, as amended, 47 U.S.C. 151-155, 160, 161, 201-205, 215, 218-220, 251-271, 303(r), 332, 403, 502, and 503, section 706 of the Telecommunications Act of 1996, 47 U.S.C. 157 nt, and sections 1.106 and 1.429 of the Commission's rules, 47 CFR 1.106 and 1.429, the petition for reconsideration filed by Iowa Telecommunications Services, Inc. is denied.

It is further ordered that CC Docket No. 99-301 is terminated.

Federal Communications Commission.
Marlene H. Dortch,
Secretary.

[FR Doc. 04-11321 Filed 5-26-04; 8:45 am]

BILLING CODE 6712-01-P